DEPARTMENT OF EDUCATION

National Institute on Disability and Rehabilitation Research

AGENCY: Office of Special Education and Rehabilitative Services, Department of Education.

ACTION: Notice of Proposed Funding Priorities for Fiscal Years (FYs) 2001-2003 for three Disability and Rehabilitation Research Projects.

SUMMARY: We propose three funding priorities under the Disability and Rehabilitation Research Projects and Centers Program (DRRP): Strategies for Promoting Information Technology (IT)-based Educational Opportunities for Individuals with Disabilities, Strategies for Promoting Information Technology (IT)-based Employment and Training Opportunities for Individuals with Disabilities, and Wayfinding Technologies for Individuals Who are Blind under the National Institute on Disability and Rehabilitation Research (NIDRR) for FYs 2001-2003. We may use these priorities for competitions in FY 2001 and later years. We take this action to focus research attention on areas of national need. We intend these priorities to improve the rehabilitation services and outcomes for individuals with disabilities.

DATES: We must receive your comments on or before May 29, 2001.

ADDRESSES: All comments concerning these proposed priorities should be addressed to Donna Nangle, U.S. Department of Education, 400 Maryland Avenue, SW., room 3414, Switzer Building, Washington, DC 20202-2645. Comments may also be sent through the Internet: donna_nangle@ed.gov

FOR FURTHER INFORMATION CONTACT: Donna Nangle. Telephone: (202) 205-5880. Individuals who use a telecommunications device for the deaf (TDD) may call the TDD number at (202) 205-4475.

Individuals with disabilities may obtain this document in an alternative format (e.g., Braille, large print, audiotape, or computer diskette) on request to the contact person listed in the preceding paragraph.

SUPPLEMENTARY INFORMATION:

Invitation to Comment

We invite you to submit comments regarding these proposed priorities.

We invite you to assist us in complying with the specific requirements of Executive Order 12866 and its overall requirement of reducing regulatory burden that might result from these proposed priorities. Please let us know of any further opportunities we should take to reduce potential costs or increase potential benefits while preserving the effective and efficient administration of the program.

During and after the comment period, you may inspect all public comments about these priorities in Room 3414, Switzer Building, 330 C Street SW., Washington, DC, between the hours of 8:00 a.m. and 4:00 p.m., Eastern time, Monday through Friday of each week except Federal holidays.

Assistance to Individuals With Disabilities in Reviewing the Rulemaking Record

On request, we will supply an appropriate aid, such as a reader or print magnifier, to an individual with a disability who needs assistance to review the comments or other documents in the public rulemaking record for these proposed priorities. If you want to schedule an appointment for this type of aid, you may call (202) 205-8113 or (202) 260-9895. If you use a TDD, you may call the Federal Information Relay Service at 1-800-877-8339.

National Education Goals

These proposed priorities will address the National Education Goal that every adult American will be literate and will possess the knowledge and skills necessary to compete in a global economy and exercise the rights and responsibilities of citizenship.

The authority for the program to establish research priorities by reserving funds to support particular research activities is contained in sections 202(g) and 204 of the Rehabilitation Act of 1973, as amended (29 U.S.C. 762(g) and 764). Regulations governing this program are found in 34 CFR part 350.

We will announce the final priorities in a notice in the Federal Register. We will determine the final priorities after considering responses to this notice and other information available to the Department. This notice does not preclude us from proposing or funding additional priorities, subject to meeting applicable rulemaking requirements.

Note: This notice does not solicit applications. In any year in which we choose to use these proposed priorities, we invite applications through a notice published in the Federal Register. When inviting applications we designate each priority as absolute, competitive preference, or invitational.

The proposed priorities refer to NIDRR's Long-Range Plan that can be accessed on the World Wide Web at: (http://www.ed.gov/offices/OSERS/NIDRR/#LRP).

Disability and Rehabilitation Research Projects and Centers Program

The purpose of the program is to plan and conduct research, demonstration projects, training, and related activities to:

(a) Develop methods, procedures, and rehabilitation technology that maximizes the full inclusion and integration into society, employment, independent living, family support, and economic and social self-sufficiency of individuals with disabilities; and

(b) Improve the effectiveness of services authorized under the Act.

Priorities for IT-based Employment and Education Initiatives

Background

The mission of the National Institute on Disability and Rehabilitation Research (NIDRR) is to “generate, disseminate, and promote the full use of new knowledge that improves substantially the options for disabled individuals to perform regular activities in the community, and the capacity of society to provide full opportunities and appropriate supports for its disabled citizens” (NIDRR Long-Range Plan, 64 FR 68575-68614, http://www.ed.gov/offices/OSERS/NIDRR). Consistent with NIDRR's mission, the NIDRR long-range plan introduced an expanded research agenda focused on elucidating the “New Paradigm of Disability.” The new paradigm of disability presents a framework for conceptualizing and understanding the interaction between individuals and the environment and how it impacts the lives of persons with disabilities. The dynamic person-environment relationship is complex, encompassing both influences and consequences in a variety of domains at the individual, institutional, and community levels. These complex person-environment relationships are not clearly understood although they have the potential to either facilitate community integration and independence for individuals with disabilities or, conversely, to serve as barriers to full participation in society, including education and employment.

Employment is a critical factor in providing individuals with disabilities opportunities to function independently in society. Employment frequently engenders empowerment, inclusion, and independence to the fullest extent possible. The National Organization on Disability, Harris Survey of Americans with Disabilities (2000) found that only 32% of individuals with disabilities of working age (18-64) work full or part time compared to 81% of the non-disabled population, a difference of 49 percent. More than two-thirds of those individuals with disabilities who are not employed say they would prefer to be working.

The Bureau of Labor Statistics has projected that four of the top ten fastest growing occupations over the next eight years will be in the information technology industry (“The 10 fastest growing occupations, 1998-2008”, Bureau of Labor Statistics, U.S. Department of Labor, 2000, http://stats.bls.gov/news.release/ecopro.t06.htm). Information technology (IT) is also projected to be the number one industry with the fastest wage and salary employment growth through 2008 (“Career Guide to Industries 2001-01 Edition, Bureau of Labor Statistics”, U.S. Department of Labor, pg. 4, 2000, http://stats.bls.gov/cghome.htm,). Given the increase in IT employment opportunities along with the flexibility these careers provide, the IT field offers tremendous opportunities for individuals with disabilities. One needs only to scan the daily newspapers to see the abundance of openings for skilled IT professionals. Therefore, research examining opportunities and barriers for individuals with disabilities in IT-based employment is crucial in this IT driven society.

For purposes of this discussion, IT-based education and training may occur in secondary, post-secondary, and vocational environments. IT-based employment careers encompass the use of, but are not limited to, high speed computers, modems, sophisticated telecommunications networks, cable networks, intranets, the Internet, the World Wide Web, and satellites.

In general, people with disabilities are less likely to have access to technology. For example, 11 percent of people with disabilities aged 15 and above have access to the Internet at home, compared to 31 percent of individuals without disabilities (National Center for Education Statistics, “Students with disabilities in post-secondary education: A profile of preparation, participation, and outcomes”, NCES 199-187, Washington, DC: U.S. Department of Education, pg. 12, 1999, http://nces.ed.gov/spider/webspider/1999187.shtml). Consequently, many individuals with disabilities have not experienced the benefits of using information technology to advance their education or employment careers.

Students of all ages with disabilities encounter barriers that limit their participation in IT-based education and training. Environmental, attitudinal, technical, social, and financial barriers that limit access to IT-based education and training in IT are often referred to as the “digital divide” (U.S. Department of Commerce Report, “Falling through the Net II: New Data on the Digital Divide”, pg. 2, 1998, http://www.ntia.doc.gov/ntiahome/net2/falling.html). Studies have found that students with disabilities in grades K-12 receive the poorest exposure to science and math of any category of students. Data comparing college students with and without disabilities indicates that students with disabilities are underrepresented in life sciences, physical sciences, and math (National Center for Education Statistics, “Students with disabilities in post-secondary education: A profile of preparation, participation, and outcomes”, NCES 199-187, Washington, DC: U.S. Department of Education, pg. 12, 1999, http://nces.ed.gov/spider/webspider/1999187.shtml). Therefore, an under-exposure to the disciplines of science, engineering and technology increases the likelihood that students with disabilities who seek higher education will arrive poorly prepared to pursue educational opportunities in these disciplines, further limiting their chances to compete for employment in these and related areas.

Strategies to expand access to IT careers vary immensely. Private and public partnerships may provide one mechanism for promoting skill and knowledge acquisition and employment in the field of information and communication technology. For instance, the DO-IT Scholars program at the University of Washington is an example of collaboration between educational and business partners to help students with disabilities explore technology careers and encourage the acquisition of knowledge and skills necessary to pursue technology careers. The National High School and High Tech Program allows students with disabilities to participate in “hands on” enrichment activities including site visits to laboratories and manufacturing plants, mentoring with professionals in high tech fields, and paid summer employment and internship opportunities in high tech environments (U.S. Department of Labor, “High School and High Tech—Chapter I—Introduction,” Office of Disability Employment Policy—U.S. Department of Labor, 2001, pg. 1, http://www.dol.gov/pcepd/pubs/hsht00/chapter1.htm).

Increased knowledge and understanding of different disabilities as well as reasonable accommodations, including assistive technologies and access to IT, are critical to the recruitment and ongoing support of individuals with disabilities in IT-based employment. In addition, expanded knowledge of employee rights and responsibilities, cost factors, legal issues, healthcare liabilities, and disability culture will have an impact on the development of strategies used by employers to successfully train and employ individuals with disabilities.

While individuals with disabilities are faced with barriers that limit access to technology and related education and training, the Internet and other information and communications technologies are changing the way our society operates. For example, these technologies have increased entrepreneurial and self-employment opportunities for individuals with and without disabilities (“Career Guide to Industries 2001-01 Edition”, Bureau of Labor Statistics, U.S. Department of Labor, pg. 42, 1999, http://stats.bls.gov/cghome.htm). To encourage growth in this sector, an examination of the factors involved in IT-related self-employment is needed to ensure that individuals with disabilities have access to a full-range of employment options. It is vital that more individuals with disabilities possess the skills necessary for employment in IT-related fields as this will greatly facilitate their full participation in America's economic, political, and social life.

Proposed Priority 1: Strategies for Promoting IT-Based Educational Opportunities for Individuals With Disabilities

We propose to establish multiple research projects to develop and evaluate IT-based education and training strategies that increase the employment of individuals with disabilities in IT related jobs. These projects must:

(1) Identify, develop, and evaluate strategies that assist with overcoming barriers that limit or preclude access to IT education and training in secondary, postsecondary, and vocational education programs;

(2) Identify and evaluate private and public partnerships between educational entities and businesses to provide education or skill-based training that assist individuals with disabilities in preparing for and securing employment in the IT industry or employment in jobs requiring expertise and training in IT; and

(3) Develop and implement in the first year of the grant, in consultation with the NIDRR-funded National Center for the Dissemination of Disability Research (NCDDR), a plan to disseminate the project's research results to the appropriate audiences including, but not limited to, educators, employers, manufacturers, persons with disabilities, disability organizations, technology service providers, businesses, and journals.

In addition to activities proposed by the applicants to carry out these purposes, the projects must:

• Coordinate with appropriate private and federally funded programs, such as the NIDRR-funded Community Based Rehabilitation Research Projects on Technology for Independence and the National Center on Accessible Education-Based Information Technology as identified through consultation with the NIDRR project officer; and

• Involve individuals with disabilities and underserved populations in all aspects of this project.

Proposed Priority 2: Strategies for Promoting IT-based Employment and Training Opportunities for Individuals With Disabilities

We propose to establish a project that will conduct research on IT-based employment and training strategies to identify barriers at the systems and individual level and to identify and evaluate effective strategies for promoting increased employment opportunities for individuals with disabilities. This project must:

(1) Identify and evaluate IT-based training and employment recruitment, hiring and placement strategies, including entrepreneurial opportunities, that promote successful employment for persons with disabilities in the IT industry;

(2) Identify, develop, and evaluate strategies to assist with overcoming barriers that limit opportunities for advanced skill development and promotions in jobs requiring significant IT knowledge and skills (including training for individuals currently working in IT industry and those in jobs requiring significant expertise with IT);

(3) Develop and evaluate training programs to inform employers, educators, and individuals with disabilities about effective strategies that will assist with overcoming barriers for IT-based training and improve IT based employment opportunities; and

(4) Develop and implement in the first year of the grant, in consultation with the NIDRR-funded National Center for the Dissemination of Disability Research (NCDDR), a plan to disseminate the project's research results to the appropriate audiences including, but not limited to, educators, employers, manufacturers, persons with disabilities, disability organizations, technology service providers, businesses, and journals.

In addition to activities proposed by the applicant to carry out these purposes, the project must:

• Coordinate with appropriate private and federally funded programs, such as the NIDRR-funded Community Based Rehabilitation Research Projects on Technology for Independence, Projects with Industry (PWI), as identified through consultation with the NIDRR project officer; and

• Involve individuals with disabilities and underserved populations in all aspects of this project.

Proposed Priority 3: Wayfinding Technologies for Individuals Who Are Blind

Background. Traveling independently without the use of sight presents certain challenges for some individuals and significant limitations for others. Typical approaches used to reduce problems associated with independent travel include environmental features that provide audible or tactile equivalents of information available visually to sighted pedestrians, training for individuals who are blind or visually impaired, and the provision of devices to aid in wayfinding.

Wayfinding refers to techniques used by people who are blind or visually impaired as they move from place to place independently and safely. Wayfinding is typically divided into two categories: orientation and mobility. Orientation concerns the ability for one to monitor his or her position in relationship to the environment; and mobility refers to one's ability to travel safely, detecting and avoiding obstacles and other potential hazards. In general terms, wayfinding is the ability to; know where you are, where you are headed, and how best to get there; recognize when you have reached your destination; and find your way out—all accomplished in a safe and independent manner.

On September 28, 1999, the Interagency Committee on Disability Research (ICDR), Subcommittee on Technology, sponsored a workshop to explore the state-of-the-art of wayfinding technology and to identify research and development activities that could improve the wayfinding capabilities of individuals who are blind or visually impaired. A panel of researchers, supported by the National Institute on Disability and Rehabilitation Research, the Department of Veterans Affairs, the National Science Foundation, and the Architectural and Transportation Barriers Compliance Board, described the state of current technology as well as ongoing research in the field. A panel of individuals who are blind or visually impaired provided consumer perspectives. A common theme expressed by the consumer panel was that newly developed wayfinding technologies should supplement, and not supplant, already accepted mobility aids such as white canes and guide dogs. Some expressed concern that individuals could become too dependent on electronic travel aids and lose their ability (or readiness) to travel elsewhere. However, the panel also expressed the need for better technical and environmental solutions that provide location and mobility orientation for blind individuals at critical points in their daily activities. (http://www.ncddr.org/icdr/icdr_wayfinding.html)

People who are blind or visually impaired rely heavily on their senses to gather information about their surroundings, then use their cognitive abilities, especially reasoning and memory, to determine what the sensory information “means” for spatial orientation. Typically individuals use auditory, tactile, olfactory and kinesthetic feedback as they move about and associate certain sensory and perceptual experiences with locations along a route. The quality and usefulness of sensory information depends in part on how the individual who is blind or visually impaired perceives the information and the specificity of the information provided (Blasch, B., “An Overview of Wayfinding Issues and Technology,” presented at the Interagency Committee on Disability Research, Subcommittee on Technology Wayfinding Technology Workshop, September 28, 1999).

Blind pedestrians often experience difficulty navigating where there is free flowing traffic such as in parking lots, malls and office complexes, campuses, and roads constructed to keep traffic flowing. They frequently find it difficult and dangerous to obtain information needed to cross at traffic intersections because of noise, intermittent traffic flow, veering due to little or no acoustic guidelines or the street being too wide, and intersections that offset from one another. Conventional traffic signals often complicate the situation. In contrast, intersections equipped with accessible pedestrian signal (APS) technologies (e.g., audible or vibrotactile information sources) have been shown to be helpful to blind and visually impaired pedestrians.

Another problem stems from a growing trend of using free-flowing roundabout intersections to move traffic quickly and safely. Roundabouts, also referred to as traffic circles, are defined as circular intersections typically with a center island and no traffic signals. Many traffic engineers feel that roundabouts increase safety because vehicles: (1) must yield on entry to a roundabout; (2) rarely travel perpendicular to one another: and (3) travel at relatively low rates of speed while in roundabouts (Guth, D., “Wayfinding at Modern Roundabouts,” presented at the Interagency Committee on Disability Research, Subcommittee on Technology Wayfinding Technology Workshop, September 28, 1999). However, much of the planning efforts for roundabouts have neglected the wayfinding requirements and as a result, blind or visually impaired pedestrians have reported difficulty with perceiving gaps in traffic that are sufficient to cross safely at high-volume roundabouts (National Safety Council, “Pedestrian Accidents,” National Safety Council Accident Facts (Injury Statistics), 1998). (See http://www.nsc.org/Irs/stainfo/af80.html)

Due to tremendous advances in electronic and computer technologies, there is great potential for development of new electronic travel aids (ETAs). Ubiquitous computing, Global Positioning Systems, wearable computers, wireless connectivity, microelectronic mechanical systems, and new interface technologies are all examples of technological advances that could be incorporated into a new generation of ETAs and ultimately improve the wayfinding skills of individuals who are blind or visually impaired. For example: traffic control buttons could be programmed to be interactive with a wearable device; digital compasses could aid users with alignment and veering; accessible digital maps could provide blind pedestrians with information regarding street names, addresses, and businesses; and sensor technology could help blind pedestrians navigate hallways in large buildings and correct veering in open spaces (i.e., malls, parks, transit plazas, etc.) (Ross, D., “Integrating Current Wayfinding Technology,” presented at the Interagency Committee on Disability Research, Subcommittee on Technology Wayfinding Technology Workshop, September 28, 1999). However, there is little evidence that advances in electronic and computer technologies have been incorporated into new ETAs.

Proposed Priority 3: Wayfinding Technologies for Individuals Who Are Blind

We propose to establish a project to investigate wayfinding strategies, designs, environmental features, and electronic information and travel aids that will enable blind and visually impaired pedestrians to safely and independently navigate their surroundings including traffic intersections and roundabouts. The project must:

(a) Identify, assess, and evaluate current and emerging needs, and barriers to meeting those needs, that affect the wayfinding abilities of blind and visually impaired pedestrians to safely, and independently, navigate their surroundings, including traffic intersections and roundabouts;

(b) Based upon the activities described in paragraph (a), investigate, evaluate, and develop new planning strategies, environmental features, and electronic travel aids that can be used by blind and visually impaired pedestrians to safely and independently, navigate their surroundings, including traffic intersections and roundabouts; and

(c) Develop and explore various strategies for strengthening partnerships with industry to facilitate the development and implementation of new designs, technologies and applications that are appropriate for blind and visually impaired pedestrians to use for wayfinding.

In addition to activities proposed by the applicant to carry out these purposes, the project must:

• Collaborate on research projects of mutual interest with relevant projects such as the NIDRR-funded RERCs on Low Vision and Blindness and Information Technology Access as identified through consultation with the NIDRR project officer;

• Collaborate with relevant Federal agencies responsible for the administration of public laws that address access to and usability of traffic intersection for individuals with disabilities such as the Architectural and Transportation Barriers Compliance Board, the U.S. Department of Transportation's Federal Highway Administration, Federal Transit Administration and National Highway Traffic Safety Administration, and other relevant Federal agencies identified by NIDRR; and

• Involve individuals who are blind and visually impaired in all aspects of this project.

Applicable Program Regulations: 34 CFR part 350.

Program Authority: 29 U.S.C. 762(g) and 764(a).

Electronic Access to This Document

You may view this document, as well as all other Department of Education documents published in the Federal Register, in text or Adobe Portable Document Format (PDF) on the Internet at the following site: http://www.ed.gov/legislation/FedRegister

To use PDF you must have Adobe Acrobat Reader, which is available free at the previous site. If you have questions about using PDF, call the U.S. Government Printing Office (GPO), toll free, at 1-888-293-6498; or in the Washington, DC, area at (202) 512-1530.

Note: The official version of this document is published in the Federal Register. Free Internet access to the official edition of the Federal Register and the Code of Federal Regulations is available on GPO Access at: http://www.access.gpo.gov/nara/index.html

(Catalog of Federal Domestic Assistance Number: 84.133A, Disability and Rehabilitation Research Project and Centers Program)

Dated: April 10, 2001.
Francis V. Corrigan,
Deputy Director, National Institute on Disability and Rehabilitation Research.

[FR Doc. 01-10499 Filed 4-26-01; 8:45 am]

BILLING CODE 4000-01-P